OFFICE OF THE UNITED STATES TRADE REPRESENTATIVE

Rectifications, Technical Corrections, and Conforming Changes to the Harmonized Tariff Schedule of the United States

AGENCY: Office of the United States Trade Representative.

ACTION: Rectifications, technical corrections, and conforming changes to the Harmonized Tariff Schedule of the United States.

SUMMARY: The United States Trade Representative (USTR) is making rectifications, technical corrections, and conforming changes to the Harmonized Tariff Schedule of the United States (HTS) as set forth in the annex to this notice, pursuant to authority delegated to the USTR in Presidential Proclamation 6969 of January 27, 1997 (62 FR 4415). These modifications correct several inadvertent errors and omissions in various Presidential Proclamations and make conforming changes to the HTS, as set forth herein, so that the intended tariff treatment is provided.

ADDRESSES: Office of the United States Trade Representative, 600 17th Street, NW., Washington, DC 20508.

DATES: Effective Date: As set forth in the Annex to this notice.

FOR FURTHER INFORMATION CONTACT: Elissa M. Alben, Assistant General Counsel, (202) 395-9622.

SUPPLEMENTARY INFORMATION: Pursuant to various statutes implementing trade agreements and to section 604 of the Trade At of 1974, as amended (19 U.S.C. 2483), the President issued proclamations in order to reflect in the HTS the substance of those agreements and actions taken pursuant to such statutes. This notice corrects several inadvertent errors and omissions in the following Presidential Proclamations and makes conforming changes to the HTS, so that the intended tariff treatment is provided: (1) Presidential Proclamation 7616 of October 31, 2002, implementing the preferential tariff treatment authorized by the Andean Trade Promotion and Drug Eradication Act (the “ATPDEA”); (2) Presidential Proclamation No. 7747 of December 30, 2003 (68 FR 75793) implementing the United States-Singapore Free Trade Agreement; (3) Presidential Proclamation No. 7857 of December 20, 2004 (69 FR 77133) implementing the United States-Australia Free Trade Agreement; (4) Presidential Proclamation No. 7987 of February 28, 2006, implementing the Dominican Republic-Central America-United States Free Trade Agreement with respect to El Salvador; (5) Presidential Proclamation No. 7995 of March 31, 2006 (71 FR 16967) implementing the Agreement on Multi-Chip Integrated Circuits; and (6) Presidential Proclamation No. 7996 of March 31, 2006, implementing the Dominican Republic-Central America-United States Free Trade Agreement with respect to Honduras and Nicaragua.

Proclamation 6969 authorized the USTR to exercise the authority provided to the President under section 604 of the Trade Act of 1974 (19 U.S.C. 2483) to embody rectifications, technical or conforming changes, and similar modifications in the HTS. Under the authority vested in the USTR by Proclamation 6969, the rectifications, technical and conforming changes, and similar modifications set forth in the annex to this notice shall be embodied in the HTS with respect to goods entered, or withdrawn from warehouse for consumption, on or after the dates specified for the respective actions set forth in such annex.

Rob Portman,
United States Trade Representative.

Annex

Effective with respect to goods entered, or withdrawn from warehouse for consumption, on or after the dates specified below, the Harmonized Tariff Schedule of the United States is modified as provided herein. The subheadings and superior text of new tariff provisions are set forth in columnar format, and material in such columns is inserted in the columns of the HTS designated “Heading/Subheading”, “Article Description”, “Rates of Duty 1 General”, and “Rates of Duty 2”, respectively.

1. Effective with respect to goods of Singapore, under the terms of general note 25 to the tariff schedule, that are entered, or withdrawn from warehouse for consumption:

(A) Effective for such goods on or after January 1, 2004, general note 25(n) is modified by redesignating tariff classification rule (TCR) 72 to chapter 62 as TCR 74, by striking TCR 71, and by inserting in numerical sequence the following new TCRs:

“71. A change to subheadings 6211.31 through 6211.49 from any other chapter, except from headings 5106 through 5113, 5204 through 5212, 5307 through 5308 or 5311, chapter 54 or headings 5508 through 5516, 5801 through 5802 or 6001 through 5005, provided that the good is both cut and sewn or otherwise assembled in the territory of Singapore or of the United States, or both.

72. A change to subheading 6212.10 from any other chapter, except from headings 5208 through 5212, 5407 through 5408, 5512 through 5516, 5803 through 5804, 5806 or 6001 through 6006, provided that the good is both cut and sewn or otherwise assembled in the territory of Singapore or of the United States, or both.

73. A change to subheadings 6212.20 through 6212.90 from any other chapter, except from headings 5106 through 5113, 5204 through 5212, 5307 through 5308 or 5311, chapter 54 or headings 5508 through 5516, 5801 through 5802 or 6001 through 5005, provided that the good is both cut and sewn or otherwise assembled in the territory of Singapore or of the United States, or both.”;

(B) Effective for such goods on or after January 1, 2004, TCR 37 to chapter 85 in general note 25(n) is modified by deleting at each instance “or 8518.50” and by inserting in lieu thereof “through 8518.50”; and

(C) Effective for such goods on or after January 1, 2006, and before the close of December 31, 2006, the special rate of duty of “11.36” followed by the symbol “SG” in parentheses is deleted and the duty rate “11.3%” is inserted in lieu thereof.

2. Effective with respect to goods of Australia, under the terms of general note 28 to the tariff schedule, that are entered, or withdrawn from warehouse for consumption, on or after January 1, 2005:

(A) General note 28(c)(ii) is modified by inserting in alphabetical sequence the following new subdivision:

“(E) For the purposes of this note, the term “adjusted value” means the value determined under Articles 1 through 8, Article 15 and the corresponding interpretative notes of the Customs Valuation Agreement, as adjusted to exclude any costs, charges or expenses incurred for transportation, insurance and related services incidental to the international shipment of the good from the country of exportation to the place of importation.”

(B) General note 28(h)(ii)(A) is modified by striking “and';

(C) General note 28(n) is modified by inserting in TCR 16(B) to chapter 61 the expression “a garment described in heading 6102,” immediately after “with respect to';

(D) General note 28(n) is modified by inserting in TCR 39 to chapter 61 the number “54” immediately after “5311, chapter''; and

(E) U.S. note 3 to subchapter XIII of chapter 99 is modified by striking the expression “but no later than 2008” and by inserting in lieu thereof “but no later than 2007''.

3. Effective with respect to (1) goods of El Salvador, under the terms of general note 29 to the tariff schedule, that are entered, or withdrawn from warehouse for consumption, on or after March 1, 2006, and (2) goods of Honduras or of Nicaragua, under the terms of such general note 29, that are entered, or withdrawn from warehouse for consumption, on or after April 1, 2006:

(A) Subheadings 2207.10.60 and 2207.20.00 are each modified by inserting in alphabetical sequence in the parenthetical expression after the duty rate of “Free” in the Rates of Duty 1-Special subcolumn the symbol “P,''; and

(B) General note 29(n) is modified by striking, in TCR 32 for chapter 62, the number “6208.91.00” and by inserting in lieu thereof “6208.91.30''.

4. Effective with respect to goods that are entered, or withdrawn from warehouse for consumption, on or after April 1, 2006, chapter 85 of the HTS is modified as follows:

(A) The following new additional U.S. note 14 to chapter 85 is inserted in numerical sequence:

“14. For the purposes of subheading 8543.89.93, the term “multichip integrated circuits” refers to multichip integrated circuits consisting of two or more interconnected monolithic integrated circuits combined to all intents and purposes indivisibly, whether or not on one or more insulating substrates, with or without lead frames, but with no other active or passive circuit elements.”;

(B) Subheading 8543.89.96 is renumbered as 8543.89.97 and the following new subheading is inserted in numerical sequence:

[8543 | Electrical machines and apparatus, having individual functions, not specified or included elsewhere in this chapter; parts thereof:]
| [Other machines and apparatus:]
[8543.89 | Other:]
| [Other:]
| [Other:]
“8543.89.93 | Multichip integrated circuits described in additional U.S. note 14 to chapter 85 | Free |  | 35%” ; and

(C) Effective on the later of January 1, 2007, or the effective date after January 1, 2007 of a proclamation that reflects modifications of heading 8543 of the Harmonized Commodity Description and Coding System in the tariff schedule, additional U.S. note 14 to chapter 85 and subheading 8543.89.93 are deleted.

5. Effective with respect to goods of designated beneficiary countries under the Andean Trade Promotion and Drug Eradication Act enumerated in U.S. note 1 to subchapter XXI of chapter 98 of the tariff schedule that are entered, or withdrawn from warehouse for consumption, on or after October 31, 2002, U.S. note 4(d) to such subchapter is modified by striking the expressions “entered free of duty as” and “Israel under the terms of general note 8 to the tariff schedule or as a good of Canada or a good of Mexico under the terms of general note 12 to the tariff schedule”, and by inserting in after “product of” the expression “Israel, Canada or Mexico”.

6. Effective with respect to goods of Nicaragua under the terms of general note 29 to the tariff schedule that are entered, or withdrawn from warehouse for consumption, on or after April 1, 2006, U.S. note 15(a) to chapter 99 is modified by inserting a comma after the expression “originating goods”.

[FR Doc. 06-4034 Filed 4-25-06; 3:18 pm]

BILLING CODE 3190-W6-P